DEPARTMENT OF HEALTH AND HUMAN SERVICES

Announcing Solicitation of Written Comments on the Physical Activity Guidelines Midcourse Report on Older Adults

AGENCY: Office of Disease Prevention and Health Promotion, Office of the Assistant Secretary for Health, Office of the Secretary, Department of Health and Human Services.

ACTION: Notice.

SUMMARY: The Department of Health and Human Services (HHS) announces the availability of the draft Physical Activity Guidelines Midcourse Report on Older Adults (Midcourse Report); and solicits written public comment on the draft report.

DATES: Written comments on the Midcourse Report will be accepted through 11:59 p.m. E.T. on [INSERT DATE 2 WEEKS FROM POSTING].

ADDRESSES: The draft Midcourse Report is available on the internet at: https://health.gov/news/202302/hhs-now-accepting-public-comments-physical-activity-guidelines-midcourse-report-older-adults.

FOR FURTHER INFORMATION CONTACT: Katrina L. Piercy, Ph.D., R.D., Office of Disease Prevention and Health Promotion (ODPHP), Office of the Assistant Secretary for Health (OASH), U.S. Department of Health and Human Services (HHS); 1101 Wootton Parkway, Suite 420; Rockville, MD 20852; Telephone: 240-453-8271. Email: PAGReviews@hhs.gov.

SUPPLEMENTARY INFORMATION: The Physical Activity Guidelines for Americans (Guidelines) provides science-based recommendations on how physical activity can help promote health and reduce the risk of chronic disease. The Guidelines serves as the benchmark and primary, authoritative voice of the federal government for providing science-based guidance on physical activity, fitness, and health in the United States. The U.S. Department of Health and Human Services (HHS) released the first edition in 2008 and the second edition in 2018. In 2013, HHS released a midcourse report highlighting strategies to increase physical activity among youth. The Guidelines and related reports are available at www.health.gov/paguidelines.

This Midcourse Report aligns with pillar 4 of the National Strategy on Hunger, Nutrition and Health: Support Physical Activity for All and was specifically noted as an action item, “HHS will release evidence-based strategies to increase physical activity among older adults.” The Office of Disease Prevention and Health Promotion (ODPHP) led the development of this midcourse report, focused on how to increase physical activity levels among older adults, in collaboration with the Centers for Disease Control and Prevention (CDC), the National Institutes of Health (NIH), and the President's Council on Sports, Fitness & Nutrition (President's Council). Members of the public are invited to review the draft Midcourse Report on Older Adults (Midcourse Report) and provide written comments.

Written Public Comments: Written comments on the draft Midcourse Report are encouraged from the public and will be accepted through [INSERT DATE 2 WEEKS FROM POSTING]. Written public comments can be submitted via email to PAGReviews@hhs.gov using the format outlined below. HHS may contact respondents regarding their submissions to ask for clarification if needed. The Department does not make decisions on specific policy recommendations based on the number of comments for or against a topic, but on the scientific justification for the recommendation.

You may submit more than one comment in your email. For each comment, please include the section (e.g., introduction), line number (e.g., line 37 or lines 86-92), and suggested action.

Please use the example format below to submit your comment(s):

Comment #1

• Section: [insert section]

• Line(s): [insert line number(s)]

• Comment: [insert comment #1]

• Suggested action: [insert suggested action]

Comment #2

• Section: [insert section]

• Line(s): [insert line number(s)]

• Comment: [insert comment #2]

• Suggested action: [insert suggested action]

All comments must be received by 11:59 p.m. E.T. on [INSERT DATE 2 WEEKS FROM POSTING], after which the time period for submitting written comments to the federal government expires. After submission, comments will be reviewed and processed. A final version of the Midcourse Report will be released later this year.

Paul Reed,
Deputy Assistant Secretary for Health, Office of Disease Prevention and Health Promotion.

[FR Doc. 2023-03859 Filed 2-23-23; 8:45 am]

BILLING CODE 4150-32-P